DEPARTMENT OF TRANSPORTATION

Federal Aviation Administration

14 CFR Part 39

[Docket No. FAA-2018-0641; Product Identifier 2018-NM-032-AD; Amendment 39-19519; AD 2018-25-08]

RIN 2120-AA64

Airworthiness Directives; Airbus SAS Airplanes

AGENCY: Federal Aviation Administration (FAA), Department of Transportation (DOT).

ACTION: Final rule.

SUMMARY: We are superseding Airworthiness Directive (AD) 2017-22-07, which applied to certain Airbus SAS Model A319 series airplanes; Model A320-211,-212, -214, -231, -232, and -233 airplanes; and Model A321-111, -112, -131, -211, -212, -213, -231, and -232 airplanes. AD 2017-22-07 required repetitive inspections of the frame forks, and corrective actions if necessary. AD 2017-22-07 also included optional modifications that constituted terminating action. This AD requires modifying certain forward and aft cargo compartment doors, and related investigative and corrective actions. This AD was prompted by an evaluation done by the design approval holder indicating that certain areas of certain cargo compartment doors are subject to widespread fatigue damage, and a determination was made that a modification of the frame forks must be done. We are issuing this AD to address the unsafe condition on these products.

DATES: This AD is effective February 1, 2019.

The Director of the Federal Register approved the incorporation by reference of a certain publication listed in this AD as of February 1, 2019.

The Director of the Federal Register approved the incorporation by reference of certain other publications listed in this AD as of January 2, 2018 (82 FR 56158, November 28, 2017).

ADDRESSES: For service information identified in this final rule, contact Airbus, Airworthiness Office—EIAS, 2 Rond Point Emile Dewoitine, 31700 Blagnac Cedex, France; telephone: +33 5 61 93 36 96; fax: +33 5 61 93 44 51; email: account.airworth-eas@airbus.com; internet: http://www.airbus.com. You may view this referenced service information at the FAA, Transport Standards Branch, 2200 South 216th St., Des Moines, WA. For information on the availability of this material at the FAA, call 206-231-3195. It is also available on the internet at http://www.regulations.gov by searching for and locating Docket No. FAA-2018-0641.

Examining the AD Docket

You may examine the AD docket on the internet at http://www.regulations.gov by searching for and locating Docket No. FAA-2018-0641; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Sanjay Ralhan, Aerospace Engineer, International Section, Transport Standards Branch, FAA, 2200 South 216th St., Des Moines, WA 98198; telephone and fax 206-231-3223.

SUPPLEMENTARY INFORMATION:

Discussion

We issued a notice of proposed rulemaking (NPRM) to amend 14 CFR part 39 to supersede AD 2017-22-07, Amendment 39-19087 (82 FR 56158, November 28, 2017) (“AD 2017-22-07”). AD 2017-22-07 applied to certain Airbus SAS Model A319 series airplanes; Model A320-211, -212, -214, -231, -232, and -233 airplanes; and Model A321-111, -112, -131, -211, -212, -213, -231, and -232 airplanes. The NPRM published in the Federal Register on August 3, 2018 (83 FR 38091). The NPRM was prompted by an evaluation done by the design approval holder (DAH) indicating that the frame forks and outer skin on the forward and aft cargo compartment doors are subject to widespread fatigue damage (WFD), and a determination was made that a modification of the frame forks must be accomplished. The NPRM proposed to continue to require repetitive inspections of the frame forks, and corrective actions if necessary, and to include optional modifications that constitute terminating action. The NPRM also proposed to require modifying certain forward and aft cargo compartment doors, and related investigative and corrective actions. We are issuing this AD to address cracks on the frame forks and outer skin on the forward and aft cargo compartment doors, which could lead to reduced structural integrity and failure of the cargo compartment door, possible decompression of the airplane, and injury to occupants.

The European Aviation Safety Agency (EASA), which is the Technical Agent for the Member States of the European Union, has issued EASA Airworthiness Directive 2018-0024, dated January 29, 2018 (referred to after this as the Mandatory Continuing Airworthiness Information, or “the MCAI”), to correct an unsafe condition for certain Airbus SAS Model A319 series airplanes; Model A320-211, -212, -214, -216, -231, -232, and -233 airplanes; and Model A321-111, -112, -131, -211, -212, -213, -231, and -232 airplanes. The MCAI states:

During full scale fatigue test, cracks were found on frame forks and outer skin on forward and aft cargo doors. To improve the fatigue behaviour of the frame forks, Airbus introduced modification (mod) 22948 in production, and issued inspection Service Bulletin (SB) A320-52-1032 and mod SB A320-52-1042, both recommended. Since those actions were taken, further improved cargo compartment doors were introduced in production through Airbus mod 26213, on aeroplanes having [manufacturer serial number] MSN 0759 and up.

In the frame of the Widespread Fatigue Damage (WFD) study, it was determined that repetitive inspection are necessary for aft and forward cargo compartment doors on aeroplanes that are in pre-mod 26213 configuration. Failure to detect cracks would reduce the cargo door structural integrity.

This condition, if not detected and corrected, could lead to cargo door failure, possibly resulting in decompression of the aeroplane and injury to occupants.

To address this unsafe condition, Airbus issued SB A320-52-1171 to provide instructions for repetitive special detailed inspections (SDI). This SB was later revised to correct the list of affected cargo doors. Airbus also issued SB A320-52-1170, introducing a door modification which would allow terminating the repetitive SDI[s].

Consequently, EASA issued AD 2016-0187 [which corresponds to FAA AD 2017-22-07] to require repetitive SDI[s] of the affected cargo doors and, depending on findings, the accomplishment of applicable repairs. That [EASA] AD also included reference to SB A320-52-1170 as optional terminating action.

Since that [EASA] AD was issued, further investigations linked to the WFD analysis highlighted that, to meet the WFD requirements, it is necessary to require embodiment of the terminating action modification.

For the reason described above, this [EASA] AD retains the requirements of EASA AD 2016-0187, which is superseded, and requires modification of all affected cargo doors, which constitutes terminating action for the repetitive SDI[s] required by this [EASA] AD.

The related investigative action is a high frequency eddy current (HFEC) rotating probe inspection for cracks. Corrective actions include, among other things, oversizing and cold-expanding any affected holes and repair.

The Airbus SAS Model A320-216 was U.S. type certificated on December 19, 2016. Before that date, any EASA ADs that affected Model A320-216 airplanes were included on the Required Airworthiness Actions List (RAAL). One or more Model A320-216 airplanes have subsequently been placed on the U.S. Register, and will now be included in FAA AD actions. For Model A320-216 airplanes, the requirements that correspond to AD 2017-22-07 were mandated by the MCAI via the RAAL. Although that RAAL requirement is still in effect, for continuity and clarity we have identified Model A320-216 airplanes in paragraph (c) of this AD.

You may examine the MCAI in the AD docket on the internet at http://www.regulations.gov by searching for and locating Docket No. FAA-2018-0641.

Comments

We gave the public the opportunity to participate in developing this final rule. The following presents the comments received on the NPRM and the FAA's response to each comment.

Support for the NPRM

United Airlines (UA) stated its agreement with the intent of the NPRM.

Request To Refer to Revised Service Information

UA asked that the NPRM reference Airbus Service Bulletin A320-52-1170, Revision 01, dated June 14, 2018. UA stated that this latest revision only includes various updates and clarifications. Further, UA pointed out that an existing alternative method of compliance (AMOC) already allows this revision. UA also asked that we include credit for doing previous actions using Airbus Service Bulletin A320-52-1170, dated September 5, 2016.

We agree with the commenter's request. For the reasons provided by the commenter, and because the revised service information does not include any additional actions, we have updated the preamble and paragraphs (j) and (k)(2) of this AD to refer to the revised service information. We have also added paragraph (o)(1) to this AD to provide credit for actions accomplished prior to the effective date of this AD using Airbus Service Bulletin A320-52-1170, dated September 5, 2016. We have redesignated subsequent paragraphs accordingly.

Request To Reference Later Revisions of Service Information

UA asked that we change paragraph (h) of the proposed AD to allow use of later EASA-approved service bulletins. UA stated that EASA AD 2018-0024, dated January 29, 2018, allows the use of later-approved revisions of Airbus Service Bulletin A320-52-1170, dated September 5, 2016. UA added that it has an approved AMOC that allows for the use of Airbus Service Bulletin A320-52-1170, Revision 01, dated June 14, 2018, as well as “all corresponding later EASA-approved service information” for accomplishing the requirements in the proposed AD.

We do not agree with the commenter's request. We may not refer to any document that does not yet exist. In general terms, we are required by Office of the Federal Register (OFR) regulations to either publish the service document contents as part of the actual AD language; or submit the service document to the OFR for approval as referenced material, in which case we may only refer to such material in the text of an AD. The AD may refer to the service document only if the OFR approved it for incorporation by reference. See 1 CFR part 51. To allow operators to use later revisions of the referenced document (issued after publication of the AD), either we must revise the AD to reference specific later revisions, or operators must request approval to use later revisions as an AMOC with this AD under the provisions of paragraph (q)(1) of this AD. Therefore, we made no change to this AD in this regard.

Request for Correction to Service Information

UA asked for approval for a correction to Appendix 02, page 1, of Airbus Service Bulletin A320-52-1170, Revision 01, dated June 14, 2018. UA asked that the following sentence “For the alternate fasteners for ASNA2657K3 series, refer to the next page” be changed to “For the alternate fasteners for ASNA2657K3 series, refer to table in page 1.”

We acknowledge the commenter's concern. However, page 2 of Appendix 02, does contain a table referencing alternative fasteners; there is no table on page 1 of Appendix 02. Therefore, the service information is correct regarding this issue. Further, only the manufacturer may revise its service information. Therefore, we have made no change to this AD in this regard.

Additional Change Made to This AD

We have added paragraph (o)(2) to this AD to provide credit for actions accomplished prior to the effective date of this AD using Airbus Service Bulletin A320-52-1042, Revision 2, dated January 14, 1997. As explained previously, we have redesignated subsequent paragraphs accordingly.

Conclusion

We reviewed the relevant data, considered the comments received, and determined that air safety and the public interest require adopting this final rule with the changes described previously and minor editorial changes. We have determined that these minor changes:

• Are consistent with the intent that was proposed in the NPRM for addressing the unsafe condition; and

• Do not add any additional burden upon the public than was already proposed in the NPRM.

We also determined that these changes will not increase the economic burden on any operator or increase the scope of this final rule.

Related Service Information Under 1 CFR Part 51

Airbus SAS has issued Service Bulletin A320-52-1170, Revision 01, dated June 14, 2018, which describes procedures for modifying all affected forward and aft cargo compartment doors, including oversizing and cold working of riveting for all frame forks.

Airbus SAS has also issued Service Bulletin A320-52-1171, Revision 02, dated April 10, 2017, which the Director of the Federal Register approved for incorporation by reference as of January 2, 2018 (82 FR 56158, November 28, 2017).

This service information is reasonably available because the interested parties have access to it through their normal course of business or by the means identified in the ADDRESSES section.

Costs of Compliance

We estimate that this AD affects 88 airplanes of U.S. registry.

We estimate the following costs to comply with this AD:

Estimated Costs
Action | Labor cost | Parts cost | Cost per product | Cost on U.S. operators
Modification | 24 work-hours × $85 per hour = $2,040 | Up to $240 | Up to $2,280 | Up to $200,640.
Inspection | 25 work-hours × $85 per hour = $2,125 per inspection cycle | $0 | $2,125 per inspection cycle | $187,000 per inspection cycle.

We have received no definitive data that would enable us to provide cost estimates for the on-condition repairs and replacements specified in this AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2017-22-07, Amendment 39-19087 (82 FR 56158, November 28, 2017), and adding the following new AD:

2018-25-08 Airbus SAS: Amendment 39-19519; Docket No. FAA-2018-0641; Product Identifier 2018-NM-032-AD.

(a) Effective Date

This AD is effective February 1, 2019.

(b) Affected ADs

This AD replaces AD 2017-22-07, Amendment 39-19087 (82 FR 56158, November 28, 2017) (“AD 2017-22-07”).

(c) Applicability

This AD applies to Airbus SAS Model A319-111, -112, -113, -114, -115, -131, -132, and -133 airplanes; Model A320-211, -212, -214, -216, -231, -232, and -233 airplanes; and Model A321-111, -112, -131, -211, -212, -213, -231, and -232 airplanes; certificated in any category; manufacturer serial numbers through 0758 inclusive.

(d) Subject

Air Transport Association (ATA) of America Code 52, Doors.

(e) Reason

This AD was prompted by an evaluation by the design approval holder (DAH) indicating that the frame forks and outer skin on the forward and aft cargo compartment doors are subject to widespread fatigue damage (WFD), and a determination that a modification of the frame forks must be accomplished. We are issuing this AD to address cracks on the frame forks and outer skin on the forward and aft cargo compartment doors, which could lead to reduced structural integrity and failure of the cargo compartment door, possible decompression of the airplane, and injury to occupants.

(f) Compliance

Comply with this AD within the compliance times specified, unless already done.

(g) Retained Definition of Affected Door, With No Changes

This paragraph restates the definition in paragraph (g) of AD 2017-22-07, with no changes. For the purpose of this AD, an “affected door” is a forward or aft cargo compartment door, having any part number listed in table 1 to paragraph (g) of this AD, except a cargo compartment door on which Airbus Service Bulletin A320-52-1042 or Airbus Service Bulletin A320-52-1170 is embodied.

(h) Retained Repetitive Special Detailed Inspection of Frame Forks, With No Changes

This paragraph restates the requirements of paragraph (h) of AD 2017-22-07, with no changes. At the latest of the compliance times listed in paragraphs (h)(1) through (h)(4) of this AD: Do a special detailed inspection of all frame forks in the beam 4 area of any affected door as defined in paragraph (g) of this AD, in accordance with the Accomplishment Instructions of Airbus Service Bulletin A320-52-1171, Revision 02, dated April 10, 2017, except as specified in paragraphs (l) and (m) of this AD. Repeat the inspection thereafter at intervals not to exceed 3,000 flight cycles. A review of the airplane delivery or maintenance records is acceptable to identify any affected door installed on the airplane, provided that the cargo compartment door part number can be conclusively determined from that review.

(1) Before exceeding 37,500 flight cycles since first installation of the door on an airplane.

(2) Within 900 flight cycles after January 2, 2018 (the effective date of AD 2017-22-07), without exceeding 41,950 flight cycles since first installation of the door on an airplane.

(3) Within 50 flight cycles after January 2, 2018 (the effective date of AD 2017-22-07), for a door having reached or exceeded 41,900 flight cycles since first installation on an airplane.

(4) Within 3,000 flight cycles since the last inspection of the door as specified in Airbus Service Bulletin A320-52-1032.

(i) Retained Corrective Actions, With No Changes

This paragraph restates the requirements of paragraph (i) of AD 2017-22-07, with no changes. If any crack is found during any inspection required by paragraph (h) of this AD, before further flight, do all applicable corrective actions in accordance with the Accomplishment Instructions of Airbus Service Bulletin A320-52-1171, Revision 02, dated April 10, 2017, except as specified in paragraphs (l) and (m) of this AD. Accomplishment of applicable corrective actions does not constitute terminating action for the repetitive inspections.

(j) Terminating Modification for Repetitive Inspections

Before the accumulation of 56,300 flight cycles, but not before the accumulation of 21,700 flight cycles since first installation of the affected door on an airplane: Modify all affected doors of an airplane, including accomplishment of all applicable related investigative and corrective actions, in accordance with the Accomplishment Instructions of Airbus Service Bulletin A320-52-1170, Revision 01, dated June 14, 2018. Accomplishing this modification constitutes terminating action for the repetitive inspections specified in paragraph (h) of this AD for that airplane, provided that, after modification, no affected door is re-installed on that airplane.

(k) Retained Optional Terminating Action, With Changes Related to Compliance

This paragraph restates the requirements of paragraph (j) of AD 2017-22-07, with changes related to compliance.

(1) Modification of all affected doors of an airplane before the effective date of this AD, in accordance with the Accomplishment Instructions of Airbus Service Bulletin A320-52-1042, Revision 2, dated January 14, 1997 (which is incorporated by reference in AD 2017-22-07 and is not incorporated in this AD), constitutes terminating action for the repetitive inspections specified in paragraph (h) of this AD and a method of compliance for the modification required by paragraph (j) of this AD, for that airplane, provided that, after modification, no affected door is re-installed on that airplane. For airplanes not previously modified before the effective date of this AD, the modification required by paragraph (j) of this AD must be done.

(2) Modification of all affected doors of an airplane including accomplishment of all applicable related investigative and corrective actions, if done before the effective date of this AD in accordance with the Accomplishment Instructions of Airbus Service Bulletin A320-52-1170, Revision 01, dated June 14, 2018, except as specified in paragraph (l) of this AD, constitutes terminating action for the repetitive inspections specified in paragraph (h) of this AD and a method of compliance for the modification required by paragraph (j) of this AD, for that airplane, provided that, after modification, no affected door is re-installed on that airplane. For airplanes not previously modified before the effective date of this AD, the modification required by paragraph (j) of this AD must be done.

(3) Modification of all affected doors on an airplane, in case of finding damaged frame forks, as specified in an Airbus Repair Design Approval Sheet (RDAS), if done before the effective date of this AD and done in accordance with a method approved by the Manager, International Section, Transport Standards Branch, FAA; or the European Aviation Safety Agency (EASA); or Airbus SAS's EASA Design Organization Approval (DOA); constitutes terminating action for the repetitive inspection specified in paragraph (h) of this AD and a method of compliance for the modification required by paragraph (j) of this AD, for that airplane, provided that, after modification, no affected door is re-installed on that airplane. For airplanes not previously modified before the effective date of this AD, the modification required by paragraph (j) of this AD must be done.

(l) Retained Exception to Service Information, With Updated Service Information

This paragraph restates the requirements of paragraph (k) of AD 2017-22-07, with updated service information. Where Airbus Service Bulletin A320-52-1170, dated September 5, 2016; Airbus Service Bulletin A320-52-1170, Revision 01, dated June 14, 2018; or Airbus Service Bulletin A320-52-1171, Revision 02, dated April 10, 2017; specifies to contact Airbus for appropriate action, and specifies that action as “RC” (Required for Compliance): Before further flight, accomplish corrective actions in accordance with the procedures specified in paragraph (q)(2) of this AD.

(m) Retained Provision: No Reporting Requirement

This paragraph restates the provision provided in paragraph (l) of AD 2017-22-07, with no changes. Although Airbus Service Bulletin A320-52-1171, Revision 02, dated April 10, 2017, specifies to submit certain information to the manufacturer, and specifies that action as “RC,” this AD does not include that requirement.

(n) Retained Credit for Previous Actions

This paragraph restates the provisions specified in paragraph (m) of AD 2017-22-07, with no changes.

(1) This paragraph provides credit for the actions required by paragraphs (h) and (i) of this AD, if those actions were performed before January 2, 2018 (the effective date of AD 2017-22-07), using Airbus Service Bulletin A320-52-1171, dated October 29, 2015, provided that it can be conclusively determined that any part number D52371000018 was also inspected as specified in paragraph (h) of this AD.

(2) This paragraph provides credit for the actions required by paragraphs (h) and (i) of this AD, if those actions were performed before January 2, 2018 (the effective date of AD 2017-22-07), using Airbus Service Bulletin A320-52-1171, Revision 01, dated September 5, 2016.

(o) New Credit for Previous Actions

(1) This paragraph provides credit for the actions required by paragraphs (j) and (k)(2) of this AD, if those actions were performed before the effective date of this AD using Airbus Service Bulletin A320-52-1170, dated September 5, 2016.

(2) This paragraph provides credit for the optional terminating modification specified in paragraph (k)(1) of this AD, if those actions were performed before the effective date of this AD using Airbus Service Bulletin A320-52-1042, Revision 2, dated January 14, 1997.

(p) Parts Installation Limitation

As of the effective date of this AD, no person may install, on any airplane, an affected door specified in paragraph (g) of this AD, unless less than 56,300 flight cycles have accumulated since first installation of the door on an airplane, and unless the door has been inspected in accordance with the requirements of paragraph (h) of this AD and all applicable corrective actions have been done in accordance with paragraph (i) of this AD.

(q) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (r)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the EASA; or Airbus SAS's EASA DOA. If approved by the DOA, the approval must include the DOA-authorized signature.

(3) Required for Compliance (RC): Except as specified in paragraphs (l) and (m) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(r) Related Information

(1) Refer to Mandatory Continuing Airworthiness Information (MCAI) EASA Airworthiness Directive 2018-0024, dated January 29, 2018, for related information. This MCAI may be found in the AD docket on the internet at http://www.regulations.gov by searching for and locating Docket No. FAA-2018-0641.

(2) For more information about this AD, contact Sanjay Ralhan, Aerospace Engineer, International Section, Transport Standards Branch, FAA, 2200 South 216th St., Des Moines, WA 98198; telephone and fax 206-231-3223.

(3) Service information identified in this AD that is not incorporated by reference is available at the addresses specified in paragraphs (s)(5) and (s)(6) of this AD.

(s) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on February 1, 2019.

(i) Airbus Service Bulletin A320-52-1170, Revision 01, dated June 14, 2018.

(ii) [Reserved]

(4) The following service information was approved for IBR on January 2, 2018 (82 FR 56158, November 28, 2017).

(i) Airbus Service Bulletin A320-52-1171, Revision 02, dated April 10, 2017.

(ii) [Reserved]

(5) For service information identified in this AD, contact Airbus, Airworthiness Office—EIAS, 2 Rond Point Emile Dewoitine, 31700 Blagnac Cedex, France; telephone: +33 5 61 93 36 96; fax: +33 5 61 93 44 51; email: account.airworth-eas@airbus.com; internet: http://www.airbus.com.

(6) You may view this service information at the FAA, Transport Standards Branch, 2200 South 216th St., Des Moines, WA. For information on the availability of this material at the FAA, call 206-231-3195.

(7) You may view this service information that is incorporated by reference at the National Archives and Records Administration (NARA). For information on the availability of this material at NARA, call 202-741-6030, or go to: http://www.archives.gov/federal-register/cfr/ibr-locations.html.

Issued in Des Moines, Washington, on November 23, 2018.
John P. Piccola,
Acting Director, System Oversight Division, Aircraft Certification Service.

[FR Doc. 2018-26533 Filed 12-27-18; 8:45 am]

BILLING CODE 4910-13-P